DEPARTMENT OF THE INTERIOR

Bureau of Reclamation

Cle Elum Dam Fish Passage Facilities and Fish Re-Introduction Project; Kittitas County, WA

AGENCY: Bureau of Reclamation, Interior.

ACTION: Notice of Intent to prepare an Environmental Impact Statement.

SUMMARY: Pursuant to section 102(2)(C) of the National Environmental Policy Act of 1969, as amended, the Bureau of Reclamation (Reclamation) proposes to prepare an Environmental Impact Statement (EIS) on the Cle Elum Dam Fish Passage Facilities and Fish Re-Introduction Project. The Washington State Department of Ecology (Ecology) will be a joint lead with Reclamation in the preparation of this EIS, which will also be used to comply with requirements of the Washington State Environmental Policy Act (SEPA).

Reclamation is evaluating the construction of downstream juvenile fish passage and upstream adult fish passage alternatives at the dam for the Cle Elum Dam Fish Passage Facilities Project. Cle Elum Dam did not include fish passage facilities when constructed in 1933; consequently, fish passage to upstream habitat for fish species was blocked.

As part of the effort to restore fish above Cle Elum Dam, the Washington Department of Fish and Wildlife (WDFW), in collaboration with Yakama Nation, is evaluating the implementation of a proposed fish re-introduction project for populations above the dam. The re-introduction project would involve the use of hatchery supplementation techniques to restore fish above the dam.

Early in 2001, Yakima River basin interest groups urged Reclamation to incorporate fish passage facilities as part of the reconstruction of Keechelus Dam under the Safety of Dams (SOD) program. Reclamation determined that fish passage facilities could not be added under existing SOD authority. However, in the January 2002 Record of Decision (ROD) for Keechelus Dam Modification EIS (Reclamation 2002), Reclamation committed to seek funding under existing authorities to conduct a feasibility study for providing fish passage at all Yakima Project storage dams. Additionally, Reclamation agreed to mitigation agreement terms and Hydraulic Project Approval (HPA) conditions with WDFW to investigate fish passage feasibility. In 2003, Reclamation prevailed in a suit filed by the Yakama Nation concerning the NEPA and Endangered Species Act compliance for the Keechelus SOD project. The Yakama Nation then appealed that decision to the 9th Circuit Court of Appeals. In 2006, Reclamation and the Yakama Nation entered into a settlement agreement to resolve litigation in which the parties agreed to collaborate to prepare technical plans and a planning report for fish passage at Cle Elum and Bumping Lake Dams. This EIS is part of the agreed-upon planning process for Cle Elum Dam only. An EIS for Bumping Lake fish passage will be prepared separately at a future time.

DATES: A scoping meeting will be held on April 30, 2009, from 5:30 to 7:30 p.m. at the location indicated under the ADDRESSES section. Written comments will be accepted through May 8, 2009, for inclusion in the scoping summary document. Requests for sign language interpretation for the hearing impaired or other special assistance needs should be submitted to David Kaumheimer, Environmental Program Manager, as indicated under the FOR FURTHER INFORMATION section by April 16, 2009.

ADDRESSES: Comments and requests to be added to the mailing list may be submitted to Bureau of Reclamation, Upper Columbia Area Office, Attention: David Kaumheimer, Environmental Program Manager, 1917 Marsh Road, Yakima, Washington 98901.

The scoping meeting will be held at the Hal Holmes Center, 209 N. Ruby Street, Ellensburg, WA 98926. The meeting facility is physically accessible to people with disabilities.

FOR FURTHER INFORMATION: Contact David Kaumheimer, Environmental Program Manager, Telephone (509) 575-5848, ext. 232. TTY users may dial 711 to obtain a toll-free TTY relay. Information on this project can also be found at http://www.usbr.gov/pn/programs/ucao_misc/fishpassage/.

SUPPLEMENTARY INFORMATION: The Yakima Project Storage Dams Fish Passage Study is conducted under the authority of the Act of December 28, 1979 (93 Stat. 1241, Pub. L. 96-162, Feasibility Study—Yakima River Basin Water Enhancement Project). Section 1205 of Title XII of the Yakima River Basin Water Enhancement Project Act of October 31, 1994 (Pub. L. 103-434, as amended, 108 Stat. 4550) authorized fish, wildlife, and recreation as additional purposes of the Yakima Project. Section 1206 of Title XII of this Act authorizes Reclamation to construct juvenile (i.e., downstream) fish passage facilities at Cle Elum Dam under a cost ceiling. Section 109 of the Hoover Power Plant Act of August 17, 1984 (Pub. L. 98-381, 98 Stat. 1340), authorizes Reclamation to design, construct, and operate fish passage facilities within the Yakima River basin that is in accordance with the NPCC's Columbia River Fish and Wildlife Program. A companion law was enacted August 22, 1984, to provide, among other things, for operations and maintenance costs related to fish facilities (Pub. L. 98-396, 98 Stat. 1379).

Alternatives are being developed to construct fish passage facilities for Cle Elum Dam which includes both downstream juvenile passage and upstream adult passage. The downstream passage facilities, as currently envisioned, would include an intake structure located just above the spillway inlet channel and a conduit through the right abutment of the dam. These modifications will provide surface releases in enough volume to attract migrating juvenile fish to an overflow gate in the reservoir that will lead to a conduit that will safely discharge the fish downstream from the dam.

The proposed upstream fish passage would consist of a trap and haul facility. Fish collected at the facility would be placed into a fish transport truck and hauled upstream for release into the reservoir and upstream tributaries.

The fish re-introduction project proposes to restore populations of sockeye salmon (Onchorynchus nerka), coho salmon (O. kisutch), spring chinook salmon (O. tshawytscha), summer steelhead (O. mykiss), and Pacific lamprey (Lampetra tridentata) through the use of hatchery supplementation techniques. Existing hatchery facilities would be used for the program and no new facilities would be constructed. The re-introduction project would initially focus on restoring coho salmon above Cle Elum Dam. The additional species would be added to the project incrementally over time. A strategy has been developed for near-term, mid-term and long-term actions.

Public Involvement

Reclamation and Ecology in collaboration with WDFW will conduct a public scoping meeting to solicit comments on the alternatives for the Cle Elum Fish Passage Facilities and Fish Re-Introduction Project, and to identify potential issues and impacts associated with those alternatives. Reclamation and Ecology will summarize comments received during the scoping meeting and from letters of comment received during the scoping period, identified under the DATES section, into a scoping summary document that will be made available to those who have provided comments. It will also be available to others upon request. If you wish to comment, you may mail us your comments as indicated under the ADDRESSES section.

Public Disclosure

Before including your name, address, phone number, e-mail address, or other personal identifying information in your comment, you should be aware that your entire comment, including your personal identifying information, may be made publicly available at any time. While you may ask us in your comment to withhold your personal identifying information from public review, we cannot guarantee that we will be able to do so.

Timothy Personius,
Acting Regional Director, Pacific Northwest Region.

[FR Doc. E9-7405 Filed 4-7-09; 8:45 am]

BILLING CODE 4310-MN-P